NATIONAL FOUNDATION ON THE ARTS AND THE HUMANITIES

National Endowment for the Arts

Combined Arts Advisory Panel

Pursuant to section 10(a)(2) of the Federal Advisory Committee Act (Public Law 92-463), as amended, notice is hereby given that four meetings of the Combined Arts Advisory Panel to the National Council on the Arts will be held at the Nancy Hanks Center, 1100 Pennsylvania Avenue, NW., Washington, DC, 20506 as follows:

Arts Education: January 14-17, 2003, Room 716 (Arts Learning category-section B1). A portion of this meeting, from 1 p.m. to 2 p.m. on January 17th, will be open to the public for policy discussion. The remaining portions of this meeting, from 9 a.m. to 6 p.m. on January 14th and 16th, from 9 a.m. to 6:30 p.m. on January 15th, and from 9 a.m. to 1 p.m. and 2 p.m. to 3:45 p.m. on January 17th, will be closed.

Arts Education: January 28-31, 2003, Room 716 (Arts Learning category-Section B2). A portion of this meeting, from 1 p.m. to 2 p.m. on January 31st, will be open to the public for policy discussion. The remaining portions of this meeting, from 9 a.m. to 6 p.m. on January 28th and 30th, from 9 a.m. to 6:30 p.m. on January 29th, and from 9 a.m. to 1 p.m. and 2 p.m. to 3:45 p.m. on January 31st, will be closed.

Folk & Traditional Arts: January 21-24, 2003, Room 716 (National Heritage Fellowships category). A portion of this meeting, from 1:30 p.m. to 2:30 p.m. on January 23rd, will be open to the public for policy discussion. The remaining portions of this meeting, from 9 a.m. to 6:30 p.m. on January 21st and 22nd, from 9 a.m. to 1:30 p.m. and 2:30 p.m. to 6:30 p.m., on January 23rd, and from 9 a.m. to 3:30 p.m. on January 24th, will be closed.

Arts Education: February 4-7, 2003, Rooms 714 & 716 (Arts Learning category—sections C1 and C2). A portion of this meeting, from 1 p.m. to 2 p.m. on February 7th, will be open to the public for policy discussion. The remaining portions of this meeting, from 9 a.m. to 6 p.m. on February 4th and 6th, from 9 a.m. to 6:30 p.m. on February 5th, and from 9 a.m. to 1 p.m. and 2 p.m. to 3:45 p.m. on February 7th, will be closed.

The closed portions of these meetings are for the purpose of Panel review, discussion, evaluation, and recommendation on applications for financial assistance under the National Foundation on the Arts and the Humanities Act of 1965, as amended, including information given in confidence to the agency by grant applicants. In accordance with the determination of the Chairman of May 2, 2002, these sessions will be closed to the public pursuant to (c)(4)(6) and (9)(B) of section 552b of title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, 202/682-5532, TDY-TDD 202/682-5496, at least seven days prior to the meeting.

Further information with reference to this meeting can be obtained from Ms. Kathy Plowitz-Worden, Office of Guidelines & Panel Operations, National Endowment for the Arts, Washington, DC, 20506, or call 202/682-5691.

Dated: December 12, 2002.
Kathy Plowitz-Worden,
Panel Coordinator, Panel Operations, National Endowment for the Arts.

[FR Doc. 02-31909 Filed 12-18-02; 8:45 am]

BILLING CODE 7537-01-P